DEPARTMENT OF ENERGY

Federal Energy Regulatory Commission

[Docket No. EL03-205-000]

Watts United Power, Complainant, v. Idaho Power Company, Inc., Respondent; Notice of Complaint

June 27, 2003.

Take notice that on June 26, 2003, Watts United Power (Watts) tendered for filing with the Federal Energy Regulatory Commission (Commission) a complaint against Idaho Power Company, Inc. (Idaho Power) pursuant to the Commission's Rule 218 (18 CFR 385.218).

Watts alleges that Idaho Power violated the terms of its Open Access Transmission Tariff (OATT) by overcharging for interconnection services and charging for interconnection related services that are not provided for in its tariffs. In addition, Watts alleges that Idaho Power violated its tariff by engaging in discriminatory treatment in an attempt to prevent Watts from actively competing against Idaho Power in the wholesale electric markets.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: July 7, 2003.

Magalie R. Salas,
Secretary.

[FR Doc. 03-16853 Filed 7-2-03; 8:45 am]

BILLING CODE 6717-01-P